SECURITIES AND EXCHANGE COMMISSION

[File No. 500-1]

Enercorp, Inc., FTS Group, Inc., Games, Inc. (n/k/a InQBate Corporation), Hartmarx Corporation (n/k/a XMH Corp. 1), and Penn Treaty American Corporation; Order of Suspension of Trading

April 25, 2013.

It appears to the Securities and Exchange Commission that there is a lack of current and accurate information concerning the securities of Enercorp, Inc. because it has not filed any periodic reports since the period ended March 31, 2009.

It appears to the Securities and Exchange Commission that there is a lack of current and accurate information concerning the securities of FTS Group, Inc. because it has not filed any periodic reports since the period ended June 30, 2008.

It appears to the Securities and Exchange Commission that there is a lack of current and accurate information concerning the securities of Games, Inc. (n/k/a InQBate Corporation) because it has not filed any periodic reports since the period ended September 30, 2005.

It appears to the Securities and Exchange Commission that there is a lack of current and accurate information concerning the securities of Hartmarx Corporation (n/k/a XMH Corp. 1) because it has not filed any periodic reports since the period ended August 31, 2008.

It appears to the Securities and Exchange Commission that there is a lack of current and accurate information concerning the securities of Penn Treaty American Corporation because it has not filed any periodic reports since the period ended December 31, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 25, 2013, through 11:59 p.m. EDT on May 8, 2013.

By the Commission.
Jill M. Peterson,
Assistant Secretary.

[FR Doc. 2013-10105 Filed 4-25-13; 11:15 am]

BILLING CODE 8011-01-P